DEPARTMENT OF TRANSPORTATION

Federal Aviation Administration

14 CFR Part 71

[Docket No. FAA-2025-0466; Airspace Docket No. 25-AWP-138]

RIN 2120-AA66

Withdrawal of NPRM: Establishment of Class E Airspace; Wickenburg, AZ

AGENCY: Federal Aviation Administration (FAA), DOT.

ACTION: Proposed rule; withdrawal.

SUMMARY: This action withdraws the NPRM published in the Federal Register on March 20, 2025, proposing to establish Class E airspace at Wickenburg, AZ. The FAA has determined that withdrawal of that NPRM is warranted as new airspace data has been received which significantly changes the proposed airspace. The FAA anticipates that a new NPRM will be issued separately to establish the Class E airspace at Wickenburg, AZ.

DATES: Effective as of 0901 UTC, April 22, 2025, the proposed rule published March 20, 2025 (90 FR 13111), is withdrawn.

FOR FURTHER INFORMATION CONTACT: Jeffrey Claypool, Federal Aviation Administration, Operations Support Group, Central Service Center, 10101 Hillwood Parkway, Fort Worth, TX 76177; telephone (817) 222-5711.

SUPPLEMENTARY INFORMATION:

History

An NPRM was published in the Federal Register on March 20, 2025 (90 FR 13111) under Docket No. FAA-2025-0466, which proposed to amend 14 CFR part 71 by establishing Class E airspace extending upward from 700 feet above the surface at Wickenburg Municipal Airport, Wickenburg, AZ. Subsequent to publication, new airspace data was received changing the airspace requirements and therefore necessitating a substantial change to the proposed airspace modifications. Therefore, the FAA is withdrawing the NPRM. The FAA anticipates separately issuing a new NPRM to establish the Class E airspace extending upward from 700 feet above the surface at Wickenburg Municipal Airport to support the new instrument procedures being developed.

List of Subjects in 14 CFR Part 71

Airspace, Incorporation by reference, Navigation (air).

The Withdrawal

Accordingly, pursuant to the authority delegated to me, the NPRM published in the Federal Register on March 20, 2025 (90 FR 13111), FR Doc. 2025-04396, is hereby withdrawn.

Issued in Fort Worth, TX, on April 15, 2025.
Wayne L. Eckenrode,
Acting Manager, Operations Support Group, ATO Central Service Center.

[FR Doc. 2025-06690 Filed 4-21-25; 8:45 am]

BILLING CODE 4910-13-P